DEPARTMENT OF JUSTICE

Drug Enforcement Administration

[Docket No. DEA-392]

Manufacturer of Controlled Substances Registration: Stepan Company

ACTION: Notice of registration.

SUMMARY: Stepan Company applied to be registered as a manufacturer of certain basic classes of controlled substances. The Drug Enforcement Administration (DEA) grants Stepan Company registration as a manufacturer of those controlled substances.

SUPPLEMENTARY INFORMATION: By notice dated April 14, 2015, and published in the Federal Register on April 22, 2015, 80 FR 22555, Stepan Company, Natural Products Department, 100 W. Hunter Avenue, Maywood, New Jersey 07607 applied to be registered as a manufacturer of certain basic classes of controlled substances. No comments or objections were submitted for this notice.

The DEA has considered the factors in 21 U.S.C. 823(a) and determined that the registration of Stepan Company to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the following basic classes of controlled substances:

Controlled substance | Schedule
Cocaine (9041) | II
Ecgonine (9180) | II

The company plans to manufacture the listed controlled substances in bulk for distribution to its customers.

Dated: April 4, 2016
Louis J. Milione,
Deputy Assistant Administrator.

[FR Doc. 2016-08576 Filed 4-13-16; 8:45 am]

BILLING CODE 4410-09-P